NATIONAL AERONAUTICS AND SPACE ADMINISTRATION

14 CFR Part 1209

[Notice 11-071]

RIN 2700-AD50

Boards and Committees

AGENCY: National Aeronautics and Space Administration.

ACTION: Direct final rule.

SUMMARY: This direct final rule makes nonsubstantive organizational changes to the NASA Inventions and Contributions Board (the Board) and removes and replaces obsolete references. The National Aeronautics and Space Administration (NASA) is amending its regulations by removing the reference to an obsolete NASA Management Instruction and to afford organizational flexibility to the Administrator in the functional placement of the Inventions and Contributions Board within the Agency without the need to amend the Code of Federal Regulations.

DATES: This direct final rule is effective September 26, 2011 unless the Agency receives significant adverse comments by midnight Eastern Standard Time on August 25, 2011.

ADDRESSES: Comments must be identified with “RIN 2700-AD50” and may be sent to NASA by the following method:

• Federal E-Rulemaking Portal: http://www.regulations.gov. Follow the online instructions for submitting comments. Please note that NASA may post all comments on the Internet without change, including any personal information provided.

FOR FURTHER INFORMATION CONTACT: Helen M. Galus, Office of the General Counsel, NASA Headquarters, telephone (202) 358-3437, fax (202) 358-4341.

SUPPLEMENTARY INFORMATION:

Direct Final Rule and Significant Adverse Comments

NASA has determined this rulemaking meets the criteria for a direct final rule because it involves nonsubstantive changes dealing with NASA's management of the Board. NASA does not anticipate that this direct final rule will result in any changes in the functions, authority, or membership of the Board. NASA expects no opposition to the changes and no significant adverse comments. However, if NASA receives a significant adverse comment, the Agency will withdraw this direct final rule by publishing a notice in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

Statutory Authority

The Board is established under the National Aeronautics and Space Act, as amended, 51 U.S.C. 20135(g). 51 U.S.C. 20136(a) authorizes the NASA Administrator to make monetary awards to any person for any scientific or technical contribution to NASA which is determined by the Administrator to have significant value in the conduct of aeronautical and space activities. Applications for such awards are referred to the Inventions and Contributions Board which transmits to the Administrator its recommendation as to the terms of the award. The functions, authority, and membership of the Inventions and Contributions Board are provided in NASA regulations at Title 14 of the Code of Federal Regulations, part 1209, subpart 4 (14 CFR 1209.400 et seq.).

Regulatory Analysis

Paperwork Reduction Act Statement

This final rule does not contain an information collection requirement that is subject to the Paperwork Reduction Act of 1995 (44 U.S.C. 3501 et seq.).

Executive Order 12866 and Executive Order 13563

Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This final rule has been designated a “significant regulatory action” although not economically significant, under section 3(f) of Executive Order 12866. Accordingly, the rule has been reviewed by the Office of Management and Budget.

Regulatory Flexibility Act

It has been certified that this final rule is not subject to the Regulatory Flexibility Act (5 U.S.C. 601) because it would not, if promulgated, have a significant economic impact on a substantial number of small entities. The rule implements the internal procedures for the effective administration of the Board.

List of Subjects in 14 CFR Part 1209

Boards and committees.

Accordingly, 14 CFR part 1209 is amended as follows:

PART 1209—BOARDS AND COMMITTEES

Subpart 4—Inventions and Contributions Board

1. The authority citation for part 1209 subpart 4 is revised to read as follows:

Authority: 51 U.S.C. 20135(g) and 20136.

2. Section 1209.402 is revised to read as follows:

§ 1209.402 Responsibilities.

(a) Waiver of rights in inventions. Under the authority of 51 U.S.C. 20135(g) and pursuant to 14 CFR part 1245 subpart 1, the Board will receive and evaluate petitions for waiver of rights of the United States to inventions, accord each interested party an opportunity for a hearing, and transmit to the Administrator its findings of fact as to such petitions and its recommendations for action to be taken with respect thereto.

(b) Monetary awards for scientific and technical contributions. (1) Under the authority of 51 U.S.C. 20136 and pursuant to 14 CFR part 1240, the Board will receive and evaluate each application for award for any scientific or technical contribution to the Administration which is determined to have significant value in the conduct of aeronautical and space activities, will accord each applicant an opportunity for a hearing upon such application, and will then transmit to the Administrator its recommendation as to the amount of the monetary award and the terms of the award, if any, to be made for such contribution.

(2) If the contribution is made by a Government employee, the Board is also authorized to consider such contribution for award under the Incentive Awards Program and to make an award, if any, on its own cognizance, up to the amount of $10,000, in accordance with NASA supplements to Chapter 451 of the Federal Personnel Manual covering this subject.

3. Section 1209.403 is revised to read as follows:

§ 1209.403 Organizational location.

The Board shall be established within an office or department of NASA as designated by the Administrator.

Charles F. Bolden, Jr.,
Administrator.

[FR Doc. 2011-18745 Filed 7-25-11; 8:45 am]

BILLING CODE P